DEPARTMENT OF THE TREASURY

United States Mint

Pricing for the 2017 Lions Clubs International Centennial Silver Dollars

AGENCY: United States Mint, Department of the Treasury.

ACTION: Notice.

SUMMARY: The United States Mint is announcing pricing for the 2017 Lions Clubs International Centennial Silver Dollars as follows:

Coin | Introductory price | Regular price
Silver Proof | $47.95 | $52.95
Silver Uncirculated | 46.95 | 51.95

FOR FURTHER INFORMATION CONTACT: Ann Bailey, Products Manager for Numismatic and Bullion; United States Mint; 801 9th Street NW., Washington, DC 20220; or call 202-354-7500.

Authority: Public Law 112-181.

Dated: December 19, 2016.
David Croft,
Associate Director for Manufacturing, United States Mint.

[FR Doc. 2016-30956 Filed 12-22-16; 8:45 am]

BILLING CODE P